DEPARTMENT OF TRANSPORTATION

Coast Guard

33 CFR Part 117

[CGD07-00-109]

Drawbridge Operation Regulations; Boynton Beach Boulevard Bridge, Atlantic Intracoastal Waterway, Boynton Beach, FL

AGENCY: Coast Guard, DOT.

ACTION: Notice of temporary deviation from regulations.

SUMMARY: The Commander, Seventh Coast Guard District, has approved a temporary deviation from the regulations governing the operation of the Boynton Beach Boulevard Drawbridge (S.R. 804) across the Atlantic Intracoastal Waterway, mile 1035.0, Boynton Beach, Palm Beach County, Florida. This deviation allows the drawbridge owner or operator to open only a single leaf for vessel traffic. A four hour advanced notice is required for a double leaf opening. This temporary deviation is required from November 14, 2000 until December 31, 2000 to allow the bridge owner to safely complete repairs to the drawbridge.

DATES: This deviation is effective on November 14, 2000, until December 31, 2000.

FOR FURTHER INFORMATION CONTACT: Mr. Barry Dragon, Chief, Operations Section, Seventh Coast Guard District, Bridge Section at (305) 415-6743.

SUPPLEMENTARY INFORMATION: The Boynton Beach Boulevard Drawbridge (S.R. 804) across the Atlantic Intracoastal Waterway at Boynton Beach, FL has a vertical clearance of 21 feet above mean high water (MHW) measured at the fenders in the closed position and a horizontal clearance of 125 between fenders. On October 30, 2000 Archer Western Contractors, representatives of the owner, requested a deviation from the current operating regulation in 33 CFR 117.35 which requires the drawbridge to open promptly and fully when a request to open is given. This temporary deviation was requested to allow necessary repairs to the drawbridge.

The District Commander has granted a temporary deviation from the operating requirements listed in 33 CFR 117.35 for the purpose of safely completing repairs. Under this deviation, the Boynton Beach Boulevard Drawbridge (S.R. 804) need only open a single leaf, with a four hour advanced notice for a double leaf opening. The deviation is effective from November 14, 2000 until December 31, 2000.

Dated: November 7, 2000.
G.E. Shapley,
Chief, Bridge Administration, Seventh Coast Guard District.

[FR Doc. 00-29104 Filed 11-14-00; 8:45 am]

BILLING CODE 4910-15-P